DEPARTMENT OF AGRICULTURE

Food and Nutrition Service

Agency Information Collection Activities: Proposed Collection; Comment Request—Annual Report of State Revenue Matching

AGENCY: Food and Nutrition Service (FNS), USDA.

ACTION: Notice.

SUMMARY: In accordance with the Paperwork Reduction Act of 1995, this notice invites the general public and other public agencies to comment on this proposed information collection which concerns the appropriation and use of State funds for the National School Lunch, School Breakfast and Special Milk Programs. This collection is a revision of a currently approved collection.

DATES: Written comments must be received on or before November 8, 2010.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to Lynn Rodgers-Kuperman, Branch Chief, Program Analysis and Monitoring Branch, Food and Nutrition Service, U.S. Department of Agriculture, 3101 Park Center Drive, Room 640, Alexandria, VA 22302. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 640, Alexandria, Virginia 22302.

All responses to this notice will be summarized and included in the request for Office of Management and Budget approval. All comments will be a matter of public record.

FOR FURTHER INFORMATION CONTACT: Requests for additional information or copies of this information collection should be directed to Ms. Lynn Rodgers-Kuperman at (703) 305-2590.

SUPPLEMENTARY INFORMATION: Title: 7 CFR part 210, National School Lunch Program.

OMB Number: 0584-0075, Form Number FNS-13.

Expiration Date: 1/31/2011.

Type of Request: Revision of a currently approved collection.

Abstract: The Food and Nutrition Service administers the National School Lunch Program, the School Breakfast Program, and the Special Milk Program as mandated by the Richard B. Russell National School Lunch Act (NSLA), as amended (42 U.S.C. 1751 et seq.), and the Child Nutrition Act of 1966, as amended (42 U.S.C. 1771 et seq.). Information on school program operations is collected from State agencies on a yearly basis to monitor and make adjustments to State agency funding requirements. As provided in 7 CFR 210.17, each school year, State revenues must be appropriated or used specifically by the State for Federal school lunch program purposes. The amount that must be appropriated or used generally is at least 30% of the funds received by the State under Section 4 of the NSLA (42 U.S.C. 1753) during the school year beginning July 1, 1980, unless exemptions or waivers are met, as described in 7 CFR 210.17. FNS uses form FNS-13 to collect data on State revenue matching to meet the reporting required by 7 CFR 210.17(g). The form is an intrinsic part of the accounting system currently being used by the subject programs to ensure proper reimbursement as well as to facilitate adequate recordkeeping. The FNS-13 form is provided to States through a web-based Federal reporting system and 100 percent of the information is collected through electronic means. The instructions on FNS-13 are being updated and this is a minor change that did not increase the burden hours. The burden hours have not changed.

Affected Public: State agencies.

Estimated Number of Respondents: 57 State agencies.

Estimated Number of Responses per Respondent: 1.

Estimated Total Annual Responses: 57.

Estimated Time per Response: 80 hours.

Estimated Total Annual Burden on Respondents: 4,560 hours.

See the table below for estimated total annual burden for each type of respondent.

Respondent | Estimated number of respondents | Responses annually per respondent | Total annual responses (col. b x c) | Estimated average number of hours per response | Estimated total hours (col. d x e)
Reporting Burden:
State agency | 57 | 1 | 57 | 80 | 4,560
Total Reporting Burden |  |  |  |  | 4,560

Dated: September 1, 2010.
Jeffrey Tribiano,
Acting Administrator, Food and Nutrition Service.

[FR Doc. 2010-22374 Filed 9-7-10; 8:45 am]

BILLING CODE 3410-30-P